DEPARTMENT OF TRANSPORTATION

Federal Aviation Administration

Release of Airport Property: Tampa International Airport, Tampa, FL

AGENCY: Federal Aviation Administration (FAA), DOT.

ACTION: Notice and Request for Public Comment.

SUMMARY: The FAA hereby provides notice of intent to release certain airport properties, approximately 3.407 acres, at the Tampa International Airport, Tampa, FL from the conditions, reservations, and restrictions as contained in federal grant assurances. The release of property will allow the Hillsborough County Aviation Authority to dispose of the property for other than aeronautical purposes. The property is located southwest corner airport property, adjacent to Highway 60. The parcel is currently designated as non-aeronautical use. The property will be released of its federal obligations to grant a perpetual utlility easement to the Tampa Electric Company (TECO) for relocation of transmission lines serving the Skyway Substation located off airport. The fair market value of the parcel has been determined by appraisal to be $695,000.

Documents reflecting the Sponsor's request are available, by appointment only, for inspection at the Tampa International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before February 21, 2012.

ADDRESSES: Documents are available for review at the Tampa International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

Bart Vernace,
Acting Manager, Orlando Airports District Office, Southern Region.

[FR Doc. 2012-1047 Filed 1-19-12; 8:45 am]

BILLING CODE 4910-13-P